DEPARTMENT OF JUSTICE

Antitrust Division

Notice Pursuant to the National Cooperative Research and Production Act of 1933—American Society of Heating, Refrigerating and Air-Conditioning Engineers

Notice is hereby given that, on September 14, 2004, pursuant to section 6(a) of the National Cooperative Research and Production Act of 1993, 15 U.S.C. 4301 et seq. (“the Act”), the American Society of Heating, Refrigerating and Air-Conditioning Engineers (“ASHRAE”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: American Society of Heating, Refrigerating and Air-Conditioning Engineers, Atlanta, GA. The nature and scope of ASHRAE's standards development activities are: advancing the arts and sciences of heating, refrigeration, air conditioning and ventilation and the allied arts and sciences, and related human factors.

Dorothy B. Fountain,
Deputy Director of Operations, Antitrust Division.

[FR Doc. 04-23529 Filed 10-20-04; 8:45 am]

BILLING CODE 4410-11-M